DEPARTMENT OF ENERGY

Federal Energy Regulatory Commission

[Docket No. CP20-49-000]

Transcontinental Gas Pipe Line Company, LLC; Notice of Schedule for Environmental Review of a Proposed Amendment of the Northeast Supply Enhancement Project

On January 31, 2020, Transcontinental Pipe Line Company, LLC (Transco) filed an application in Docket No. CP20-49-000 requesting to amend the Certificate of Public Convenience and Necessity granted by the Federal Energy Regulatory Commission (Commission or FERC) for the Northeast Supply Enhancement Project on May 3, 2019, in Docket No. CP17-101-000. Transco's proposed amendment involves utilizing an alternative road for permanent access to Compressor Station 206 in Somerset County, New Jersey, rather than constructing the previously approved access road to the site.

On February 5, 2020, the Commission issued its Notice of Application for the proposed amendment. Among other things, that notice alerted agencies issuing federal authorizations of the requirement to complete all necessary reviews and to reach a final decision on a request for a federal authorization within 90 days of the date of issuance of the Commission staff's environmental document for the project. This instant notice identifies the FERC staff's planned schedule for the completion of an Environmental Assessment (EA) for the proposed amendment.

Schedule for Environmental Review

Issuance of EA—May 15, 2020

90-day Federal Authorization Decision Deadline—August 13, 2020

If a schedule change becomes necessary, additional notice will be provided so that the relevant agencies are kept informed of project progress.

Project Description

Transco proposes to amend the Northeast Supply Enhancement Project to utilize an alternative permanent access road to Compressor Station 206 (referred to as the Higgins Farm Access Road) that would involve the use and extension of an existing road rather than construction of the previously approved access road across property owned by Trap Rock Industries (referred to as the Trap Rock Access Road). Transco states the proposal would enable it to comply with requirements from the New Jersey Department of Environmental Protection and reduce wetland impacts. The existing road crosses the Higgins Farm Superfund Site for approximately 1,819 feet, terminating at an enclosed groundwater remediation system operated by the U.S. Environmental Protection Agency. Transco would not modify the existing road, but would extend the road approximately 1,213 feet to the compressor station site. Approximately 331 feet of the extension would occur on the Higgins Farm Superfund Site and the remaining 882 feet would occur on land owned by Transco.

Background

On February 19, 2020, the Commission issued a Notice of Intent to Prepare an Environmental Document for a Proposed Amendment of the Northeast Supply Enhancement Project and Request for Comments on Environmental Issues (NOI). The NOI was sent to affected landowners; federal, state, and local government agencies; elected officials; environmental and public interest groups; Native American tribes; other interested parties; and local libraries and newspapers. In response to the NOI, the Commission received one comment letter related to the Higgins Farm Access Road from the Eastern Environmental Law Center. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC website (www.ferc.gov). Using the eLibrary link, select General Search from the eLibrary menu, enter the selected date range and Docket Number excluding the last three digits (i.e., CP20-49), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 25, 2020.
Kimberly D. Bose,
Secretary.

[FR Doc. 2020-06672 Filed 3-30-20; 8:45 am]

BILLING CODE 6717-01-P